DEPARTMENT OF ENERGY

Federal Energy Regulatory Commission

Combined Notice of Filings

September 9, 2008.

Take notice that the Commission has received the following Natural Gas Pipeline Rate and Refund Report filings:

Docket Numbers: RP08-591-000

Applicants: Equitrans, L.P.

Description: Equitrans, LP submits Twenty First Revised Sheet 5 et al to FERC Gas Tariff, Original Volume 1, effective 10/1/08.

Filed Date: 08/29/2008

Accession Number: 20080903-0031

Comment Date: 5 p.m. Eastern Time on Friday, September 12, 2008.

Docket Numbers: RP08-602-000

Applicants: Sabine Pipe Line LLC

Description: Sabine Pipe Line LLC submits a revision to original transmittal letter dated 8/27/08, correcting proposed effective date of October 1, 2008 instead of November 1, 2008.

Filed Date: 09/08/2008

Accession Number: 20080908-4000

Comment Date: 5 p.m. Eastern Time on Monday, September 22, 2008.

Docket Numbers: CP03-342-005 CP03-343-003

Applicants: Discovery Gas Transmission LLC and Discovery Producer Services LLC

Description: Discovery Gas Transmission LLC and Discovery Producer Services LLC submit a joint abbreviated application to amend the certificate granted by FERC's order issued 5/6/04.

Filed Date: 08/12/2008

Accession Number: 20080818-0056

Comment Date: 5 p.m. Eastern Time on Friday, September 19, 2008.

Docket Numbers: CP08-30-001

Applicants: Colorado Interstate Gas Company

Description: Colorado Interstate Gas Company petitions to amend order to reflect increased project costs and to revise initial rates.

Filed Date: 09/08/2008

Accession Number: 20080908-5081

Comment Date: 5 p.m. Eastern Time on Friday, September 19, 2008.

Docket Number: CP08-461-000

Applicants: Texas Eastern Transmission, LP

Description: Texas Eastern Transmission, LP submits an application for permission and approval to abandon 50,000 dekatherms per day of firm capacity by lease too Discovery Gas Transmission, LLC.

Filed Date: 08/12/2008

Accession Number: 20080815-0051

Comment Date: 5 p.m. Eastern Time on Friday, September 19, 2008.

Docket Number: CP08-470-000

Applicants: Questar Pipeline Company

Description: Questar Pipeline Company submits an abbreviated application for abandonment authorization.

Filed Date: 09/05/2008

Accession Number: 20080905-5146

Comment Date: 5 p.m. Eastern Time on Friday, September 19, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-21296 Filed 9-11-08; 8:45 am]

BILLING CODE 6717-01-P